DEPARTMENT OF LABOR

Employment and Training Administration

[TA-W-64,218]

Trilogy Finishing, Inc., Detroit, MI; Notice of Revised Determination on Reopening

On January 5, 2009, the Department, on its own motion, reopened its investigation for workers and former workers of the subject firm. Trilogy Finishing, Inc. in Detroit, Michigan is comprised of the Office and Buffing Plant and the Plating Plant.

The initial investigation resulted in a negative determination issued on December 15, 2008, based on the finding that there were no increased imports of articles like or directly competitive with buffed, polished and/or nickel-plated metal parts produced by Trilogy Finishing, Inc., nor did the firm shift that production to a foreign country. Since the workers were denied eligibility to apply for trade adjustment assistance (TAA) they were also denied eligibility to apply for alternative trade adjustment assistance (ATAA) for older workers. The notice will be published soon in the Federal Register.

After the decision was issued, the Department received a response to the survey conducted for the primary customers of Trilogy Finishing, Inc., Detroit, Michigan, regarding their purchases of buffed, polished and/or nickel-chrome plated metal parts (including like or directly competitive articles) in 2006, 2007, and January through September of 2007 and 2008. This late survey response showed that the customer increased import purchases while reducing purchases from the subject firm.

There were declines in employment and production at Trilogy Finishing, Inc., Detroit, Michigan, during the relevant period.

Based on these findings, it is determined in this case that the requirements of (a)(2)(A) of Section 222 have been met.

In order for the Department to issue a certification of eligibility to apply for alternative trade adjustment assistance ATAA, the group eligibility requirements of Section 246 of the Trade Act must be met. The Department has determined in this case that the requirements of Section 246 have been met.

A significant number of workers at the firm are age 50 or over and possess skills that are not easily transferable.

Conclusion

After careful consideration of the new facts obtained on reopening, it is concluded that increased imports of articles like or directly competitive with buffed, polished and/or nickel-chrome plated metal parts produced by Trilogy Finishing, Inc., Detroit, Michigan, contributed importantly to the total or partial separation of workers and to the decline in sales or production at that firm or subdivision.

In accordance with the provisions of the Trade Act of 1974, I make the following revised determination:

“All workers of Trilogy Finishing, Inc., Detroit, Michigan, who became totally or partially separated from employment on or after October 3, 2007 through two years from the date of certification, are eligible to apply for adjustment assistance under Section 223 of the Trade Act of 1974, and are also eligible to apply for alternative trade adjustment assistance under Section 246 of the Trade Act of 1974, as amended.”

Signed in Washington, DC, this 6th day of January 2009.
Linda G. Poole,
Certifying Officer, Division of Trade Adjustment Assistance.

[FR Doc. E9-646 Filed 1-14-09; 8:45 am]

BILLING CODE 4510-FN-P